Proclamation 10460 of September 30, 2022

National Disability Employment Awareness Month, 2022

By the President of the United States of America

A Proclamation

During National Disability Employment Awareness Month, we celebrate the essential contributions to our workplaces, economy, and Nation made by disabled Americans and recommit to promoting equal opportunity for all people.

For far too long in this country, employers could refuse to hire you if you were disabled. Stores could turn you away. If you used a wheelchair, there was no real way to take a bus or train to work or school. America simply was not built for all Americans. In 1945, President Truman established National Disability Employment Awareness Month and issued the first national call for disabled people to access all the opportunities and rewards of work. Forty-five years later, in 1990, the Congress came together to pass the Americans with Disabilities Act (ADA), which helps to ensure our workforce is more productive, prosperous, and inclusive by banning disability discrimination, including in the workplace. Courageous activists of all backgrounds had fought for decades to lay the groundwork and change public consciousness, and I was proud to cosponsor this groundbreaking civil rights law. Since then, the ADA has not only transformed lives, but it has also inspired over 180 other countries to pass similar laws and brought us closer to realizing the full promise of our Nation.

Still, we have a long way to go. Studies have found that Americans with disabilities are especially productive and motivated workers—but they still have a harder time getting jobs, promotions, and fair pay. They are three times less likely than others to be employed and often earn sub-minimum wages for their work. That is wrong. We have an obligation to change that, and as the Nation's largest employer, the Federal Government has a responsibility to set an example as a model workplace where everyone is valued and treated with respect. Last year, I issued an Executive Order putting diversity, equity, inclusion, and accessibility front and center across the entire Federal Government. To ensure our Federal workforce actually looks like America, the Executive Order directs agencies to find and remove barriers to hiring and promotion and to recruit more recent graduates with disabilities.

Meanwhile, my Administration's Labor Department is protecting the rights of workers with disabilities in the private sector, cracking down on employers who discriminate, and ending the unfair use of sub-minimum wages. The Departments of Education, Labor, Health and Human Services, and the Social Security Administration, are helping State and local governments, employers, and nonprofits that hire people with disabilities to access funding for competitive integrated employment opportunities. My Administration's Bipartisan Infrastructure Law is expanding access to transit, updating old train stations and airports so more people with disabilities can travel and work. We are working to ease the added threat the pandemic has posed to the disabled community and its support networks. Where long COVID has now risen to the level of a disability, we are helping people understand their rights and get the workplace accommodations they need.

This month, let us acknowledge workers with disabilities who make our communities, our economy, and our Nation stronger. Let us continue the legacy of generations of disability rights activists who have fought for equal employment opportunities, integrated workplaces, and equal pay for equal work. Let us deliver the promise of America to all Americans.

NOW, THEREFORE, I, JOSEPH R. BIDEN JR., President of the United States of America, by virtue of the authority vested in me by the Constitution and the laws of the United States, do hereby proclaim October 2022 as National Disability Employment Awareness Month. I urge all Americans to embrace the talents and skills that workers with disabilities bring and to promote the right to equal employment opportunity for all.

IN WITNESS WHEREOF, I have hereunto set my hand this thirtieth day of September, in the year of our Lord two thousand twenty-two, and of the Independence of the United States of America the two hundred and forty-seventh.

[FR Doc. 2022-21774

Filed 10-4-22; 8:45 am]

Billing code 3395-F3-P